DEPARTMENT OF COMMERCE

International Trade Administration

Applications for Duty-Free Entry of Scientific Instruments

Pursuant to section 6(c) of the Educational, Scientific and Cultural Materials Importation Act of 1966 (Pub. L. 89-651; 80 Stat. 897; 15 CFR part 301), we invite comments on the question of whether instruments of equivalent scientific value, for the purposes for which the instruments shown below are intended to be used, are being manufactured in the United States.

Comments must comply with 15 CFR 301.5(a) (3) and (4) of the regulations and be filed within 20 days with the Statutory Import Programs Staff, U.S. Department of Commerce, Washington, DC 20230. Applications may be examined between 8:30 a.m. and 5 p.m. in Room 4211, U.S. Department of Commerce, 14th Street and Constitution Avenue, NW., Washington, DC.

Docket Number: 00-039. Applicant: Rensselaer Polytechnic Institute, 110 Eighth Street, Troy, NY 12180-3590. Instrument: Electron Microscope, Model JEM-2010. Manufacturer: JEOL Ltd., Japan. Intended Use: The instrument is intended to be used to determine the morphology, elemental composition, crystal structure, long/short range ordering and microcrystalline structures during studies of the physics-chemical properties of inorganic and polymer materials including minerals, ceramics or other particulates, semiconductors, composites, alloys and polymers. Application accepted by Commissioner of Customs: December 15, 2000.

Docket Number: 00-040. Applicant: The University of Chicago, Operator of Argonne National Laboratory, 9700 S. Cass Avenue, Argonne, IL 60439. Instrument: UHV Scanning Tunneling Microscope/Atomic Force Microscope. Manufacturer: Omicron Vakuumphysik GmbH, Germany. Intended Use: The instrument is intended to be coupled to an existing molecular beam epitaxy chamber in ultra-high vacuum and used to characterize magnetic surfaces and self-assembled metallic and insulating nanostructures. The studies will include investigation of growth morphology in a large area of micron size and detailed structure with atomic resolution in a small area. The goal of these studies is to understand the formation of nanostructures during growth, and to gain fundamental understanding of the novel magnetic phenomena in nanoscale systems. Application accepted by Commissioner of Customs: December 15, 2000.

Docket Number: 00-041. Applicant: Massachusetts Institute of Technology, 77 Massachusetts Avenue, Room 8-309, Cambridge, MA 02139. Instrument: Nanoindentor. Manufacturer: Micro Materials Ltd., United Kingdom. Intended Use: The instrument is intended to be used for studies of the mechanical properties such as strength and stiffness of industrial metals—aluminum, various steels, ceramics and super alloys. In addition, the instrument will be used to illustrate state of the art testing procedures of advanced materials on the undergraduate and graduate levels in the course Mechanical Behavior of Materials. Application accepted by Commissioner of Customs: December 20, 2000.

Docket Number: 00-042. Applicant: Argonne National Laboratory, 9700 S. Cass Avenue, Argonne, IL 60439-4874. Instrument: Track Mounted Cone Penetrometer Vehicle and Associated Equipment, Model COSON 200. Manufacturer: A. P. Van Den Berg, Inc., The Netherlands. Intended Use: The instrument is intended to be used for research concentrated on the development of instrumentation to expand the knowledge and understanding of geotechnical properties of subsurface sediments and to better recover this data through improved electronic software and sampling systems. Experiments will involve the geotechnical properties of soils, metallurgy of the rods used to push the electronic cones, and the development of improved electronic and sampling equipment based upon experience gained and subsurface environmental conditions encountered during the normal course of site characterization studies. Application accepted by Commissioner of Customs: December 22, 2000.

Docket Number: 00-043. Applicant: Harvard University, 16 Divinity Avenue, Cambridge, MA 02138. Instrument: Picking and Gridding QBot with Accessories. Manufacturer: Genetix Ltd., United Kingdom. Intended Use: The instrument is intended to be used for studies of bacterial cultures, bacterial colonies and DNA fragments performing amplification, arraying and selection applications while optimizing the following characteristics: (1) Speed and throughput, (2) cost-effectiveness, (3) accuracy, (4) user safety, (5) robustness, (6) reduction error, (7) flexibility and (8) automation of otherwise tedious procedures. Application accepted by Commissioner of Customs: December 29, 2000.

Gerald A. Zerdy,
Program Manager, Statutory Import Programs Staff.

[FR Doc. 01-2058 Filed 1-23-01; 8:45 am]

BILLING CODE 3510-DS-P